DEPARTMENT OF DEFENSE

Department of the Air Force

Notice of Intent To Prepare an Environmental Impact Statement; Airfield Repairs, Landing Systems Improvements, and Adjustments to Aircrew Training at Altus Air Force Base, Oklahoma

The United States Air Force intends to prepare an Environmental Impact Statement (EIS) to evaluate potential environmental impacts of the following proposed actions at the 97th Air Mobility Wing, Altus Air Force Base, Oklahoma:

• Repair of the west runway (Runway 17 Right/35 Left) and associated taxiways;

• Installation of an Instrument Landing System (ILS) for the east runway (Runway 17 Left/35 Right) and a Microwave Landing System (MLS) on the assault landing strip;

• Increase C-17 and KC-135 training while phasing out C-141 aircrew training and reducing C-5 training.

Deterioration of airfield pavements over the years has increased the potential for loose material damage to the aircraft that use the west runway and associated taxiways. During the nearly three-year phased runway repair program, some increased use of the east runway would be necessary. During an approximate four-month period, the west runway would be closed and the east runway would be used for all essential aircraft operations.

An instrument approach is a series of predetermined maneuvers for the orderly transfer of an aircraft from the beginning of the initial approach to a landing, or to a point from which a landing may be made visually or a missed approach is executed. Currently, Altus AFB has ILS approaches only to each end of the west runway. ILS equipment transmits information to aircraft to guide the aircraft to the runway. This ILS approach capability would be lost during the repair phase when the west runway would be closed. Thus, installing ILS equipment on the east runway before the west runway is closed for repair would allow continued ILS approach training at Altus AFB. Over the long-term, the increased availability of ILS approaches on both runways, as opposed to only the west runway, would improve aircrew training efficiency at the base. Aircrews currently use simulators for MLS approaches since the base does not have MLS equipment on the airfield. MLS approach capability to the assault landing strip would allow aircrews to perform MLS approaches in the C-17 aircraft. This equipment would also complement simulator training.

As C-141 aircraft are phased out of the Air Force inventory, the Air Force's need for C-17 and KC-135 aircrew training will increase and need for C-5 aircrew training will decrease from levels previously forecast and environmentally assessed. The net effect will be an increased need for flying training at Altus AFB. Altus AFB aircrews would continue using Clinton-Sherman Industrial Airpark, Burns Flat, Oklahoma, for practice approaches, takeoffs, landings, and closed patterns.

In addition to the Proposed Action, the EIS will evaluate the potential environmental impacts of alternatives. One alternative is identical to the Proposed Action except that C-5 aircraft operations at the base would be reduced during the period when the west runway is closed. A second alternative is identical to the Proposed Action except that KC-135 aircraft operations at the base would be reduced during the period when the west runway is closed. These two alternatives would result in increased operations at Clinton-Sherman Industrial Airpark during the period of runway repair. The flying training adjustments identified for the Proposed Action would occur under a third alternative; however, the runway repair and landing systems installations would not occur. A fourth alternative would be the same as the Proposed Action except that the C-141 aircraft would not be phased out. Therefore, this alternative would include C-141 aircraft operations. The EIS will also evaluate the No Action alternative.

The EIS is being prepared in compliance with the National Environmental Policy Act. The Air Force invites government agency representatives and members of the community to hear a presentation on the proposal and to identify environmental issues to be analyzed in the EIS that will be used in the decision-making process.

A public scoping meeting on the proposal will be held Tuesday, June 13, 2000. An Open House will be held at 6:30 p.m. The meeting begins at 7:30 p.m. in Herschel H. Crow Auditorium, Western Oklahoma State College, 2801 N. Main, Altus, Oklahoma.

Comments on this proposed action may be sent (postmarked by June 30, 2000) to Linda C. Stokes, 97 AMW/PA, 100 Inez Blvd., Suite 2, Altus AFB, OK 73523-5047. Ms. Stokes can be reached at (580) 481-7229 or by facsimile at (580) 481-5966.

Janet A. Long,
Air Force Federal Register Liaison Officer.

[FR Doc. 00-13305 Filed 5-25-00; 8:45 am]

BILLING CODE 5001-05-P